DEPARTMENT OF TRANSPORTATION

Federal Aviation Administration

14 CFR Part 39

[Docket No. FAA-2009-0789; Directorate Identifier 2008-NM-185-AD; Amendment 39-16228; AD 2010-06-04]

RIN 2120-AA64

Airworthiness Directives; Airbus Model A300 B2-1C, B2-203, B2K-3C, B4-103, B4-203, B4-2C Airplanes; Model A310 Series Airplanes; and Model A300 B4-601, B4-603, B4-605R, B4-620, B4-622, and B4-622R Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

Cracks have been found on pylon side panels (upper section) at rib 8 on Airbus A300, A310 and A300-600 aircraft equipped with General Electric engines. Investigation of these findings indicates that this problem is likely to affect aircraft of this type design with other engine installations. This condition, if not corrected, can lead to reduced strength [structural integrity] of the pylon primary structure.

* * * * *

The unsafe condition is reduced structural integrity of the pylon primary structure, which could cause detachment of the engine from the fuselage. We are issuing this AD to require actions to correct the unsafe condition on these products.

DATES: This AD becomes effective April 15, 2010.

The Director of the Federal Register approved the incorporation by reference of certain publications listed in this AD as of April 15, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on September 21, 2009 (74 FR 48024). That NPRM proposed to correct an unsafe condition for the specified products. The MCAI states:

Cracks have been found on pylon side panels (upper section) at rib 8 on Airbus A300, A310 and A300-600 aircraft equipped with General Electric engines. Investigation of these findings indicates that this problem is likely to affect aircraft of this type design with other engine installations. This condition, if not corrected, can lead to reduced strength [structural integrity] of the pylon primary structure.

In order to detect any crack propagation at an early stage, thus avoiding an extensive repair, Airbus issued Service Bulletins (SB) A300-54-0075, A310-54-2018 and A300-54-6015. * * *

This AD requires the implementation of this * * * inspection programme.

The unsafe condition is reduced structural integrity of the pylon primary structure, which could cause detachment of the engine from the fuselage. Required actions include repetitive detailed visual inspections, or repetitive eddy current and detailed visual inspections, to detect cracks, depending on the airplane configuration, and corrective actions if necessary. The corrective actions include repairing the cracking, and contacting Airbus for repair instructions and doing the repair, as applicable. You may obtain further information by examining the MCAI in the AD docket.

Comments

We gave the public the opportunity to participate in developing this AD. We considered the comments received.

Request To Clarify Reporting Requirement

American Airlines requests that we remove the requirement for reporting findings to Airbus. The commenter states that Appendix 1, 2, and 3 in Airbus Service Bulletin A300-54-6015 require findings to be reported; however, the proposed rule specifically excludes Appendix 1, 2, and 3 in Table 2 of this AD. American Airlines states the difference is not addressed in the proposed rule. The commenter also states that reporting findings within a specified time period has no effect on improving safety and should not be mandated by the proposed rule.

We agree that reporting inspection findings to Airbus is not necessary in this AD for the reasons stated by the commenter. Since the MCAI requires reporting inspection findings to Airbus and it is not our intent to require those reports, we have added Note 2 in this AD to clarify that this AD does not include a reporting requirement.

Request To Refer to Paragraph 3.B. in Airbus Mandatory Service Bulletin A300-54-6015, Revision 02, Dated June 26, 2008, for Inspection Task

The commenter, R. L. Vernon, requests that paragraph (f)(1) of the NPRM refer to paragraph 3.B. of Airbus Mandatory Service Bulletin A300-54-6015, Revision 02, dated June 26, 2008, rather than paragraph 3.E., for the inspection task. The commenter states that paragraph 3.E. incorrectly calls for the access panels to be removed, rather than installed.

We concur with the request to refer to paragraph 3.B of Airbus Mandatory Service Bulletin A300-54-6015, Revision 02, dated June 26, 2008. It appears there is a typographical error in paragraph 3.E. of Airbus Mandatory Service Bulletin A300-54-6015, Revision 02, dated June 26, 2008, which instructs operators to remove access panels rather than to install access panels. We have revised paragraph (f) of this AD to refer to the specific section of the Accomplishment Instructions of Airbus Mandatory Service Bulletin A300-54-6015, Revision 02, dated June 26, 2008, for that action. We have also revised paragraphs (f)(4) and (f)(7) of this AD to refer to paragraph 3.C. rather than paragraph 3.B. of the Accomplishment Instructions.

Request To Extend Grace Period

FedEx requests that the grace period for the inspection to detect cracking be extended from 250 flight cycles to 350 flight cycles. FedEx states the inspection threshold/grace periods do not fit into their planned scheduled maintenance checks. FedEx states that 61 of 95 affected airplanes have exceeded the AD compliance threshold, and thus will be subject to the grace period of 250 flight cycles. FedEx states that the grace period of 250 flight cycles does not allow all airplanes to be inspected at a B-check (every 500 flight hours), thereby requiring the airplanes to be inspected at a special visit.

We do not agree with the request to extend the grace period. An extension to the grace period cannot be provided easily and depends on the airplane and structure configuration, as well as the number of flight cycles and flight hours accumulated from repair embodiment or from first flight. Under the provisions of paragraph (g)(1) of the final rule, we will consider requests for approval of an extension of the grace period if sufficient data are submitted to substantiate that the new grace period would provide an acceptable level of safety. We have not changed the AD in this regard.

Request for Clarification of Table 1 of the NPRM

FedEx requests that the compliance times listed in Table 1 of the NPRM be written more clearly. FedEx states that the 18,000-flight-cycle criterion appears to be arbitrary and adds confusion for the reader. FedEx provides an example that excludes the criterion of 18,000 flight cycles.

We disagree with the request to change Table 1 of the NPRM. The thresholds specified in the second column of that table were derived from the note in the Configuration 01 table in paragraph 1.E.(2) of Airbus Service Bulletin A300-54-6015, Revision 02, dated June 26, 2008. The note states that the inspection is to be done within 2,000 flight cycles without exceeding 20,000 total flight cycles/40,000 total flight hours from first flight. The compliance times specified in Table 1 of this AD reflect the intent of Airbus Mandatory Service Bulletin A300-54-6015, Revision 02, dated June 26, 2008. We have not changed the AD in this regard.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Explanation of Change of Costs of Compliance

Since issuance of the original NPRM, we have increased the labor rate used in the Costs of Compliance from $80 per work-hour to $85 per work-hour. The Costs of Compliance information, below, reflects this increase in the specified hourly labor rate.

Costs of Compliance

We estimate that this AD will affect 230 products of U.S. registry. We also estimate that it will take about 4 work-hours per product to comply with the basic requirements of this AD. The average labor rate is $85 per work-hour. Based on these figures, we estimate the cost of this AD to the U.S. operators to be $78,200, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-06-04 Airbus: Amendment 39-16228. Docket No. FAA-2009-0789; Directorate Identifier 2008-NM-185-AD.

Effective Date

(a) This airworthiness directive (AD) becomes effective April 15, 2010.

Affected ADs

(b) None.

Applicability

(c) This AD applies to the airplanes, certificated in any category, identified in paragraphs (c)(1), (c)(2), and (c)(3) of this AD.

(1) Airbus Model A300 B2-1C, A300 B2-203, A300 B2K-3C, A300 B4-103, A300 B4-203, and A300 B4-2C airplanes, all serial numbers incorporating Airbus Modification 02434 or 03599;

(2) Airbus Model A310-203, A310-204, A310-221, A310-222, A310-304, A310-322, A310-324, and A310-325 airplanes, all serial numbers, except airplanes incorporating Airbus Modification 10432;

(3) Airbus Model A300 B4-601, A300 B4-603, A300 B4-605R, A300 B4-620, A300 B4-622, and A300 B4-622R airplanes, all serial numbers, except airplanes incorporating Airbus Modification 10432.

Subject

(d) Air Transport Association (ATA) of America Code 54: Nacelles/Pylons.

Reason

(e) The mandatory continuing airworthiness information (MCAI) states:

“Cracks have been found on pylon side panels (upper section) at rib 8 on Airbus A300, A310 and A300-600 aircraft equipped with General Electric engines. Investigation of these findings indicates that this problem is likely to affect aircraft of this type design with other engine installations. This condition, if not corrected, can lead to reduced strength [structural integrity] of the pylon primary structure.

“In order to detect any crack propagation at an early stage, thus avoiding an extensive repair, Airbus issued Service Bulletins (SB) A300-54-0075, A310-54-2018 and A300-54-6015. * * *

“This AD requires the implementation of this * * * inspection programme.”

The unsafe condition is reduced structural integrity of the pylon primary structure, which could cause detachment of the engine from the fuselage. Required actions include repetitive detailed visual inspections, or repetitive eddy current and detailed visual inspections, to detect cracks, depending on the airplane configuration, and corrective actions if necessary. The corrective actions include repairing the cracking, and contacting Airbus for repair instructions and doing the repair, as applicable.

Actions and Compliance

(f) Unless already done, do the following actions.

(1) For Configuration 01 airplanes as identified in the applicable service bulletin identified in Table 2 of this AD: At the applicable time specified in Table 1 of this AD, except as required by paragraphs (f)(2) and (f)(3) of this AD, perform a detailed visual inspection of the pylons 1 and 2 side panels (upper section) at rib 8, in accordance with paragraph 3.B. of the Accomplishment Instructions of the applicable service bulletin identified in Table 2 of this AD. Repeat the inspection at the time specified in Table 1 of this AD.

Table 1—Compliance Times for Configuration 1
For model— | That have accumulated— | Whichever occurs later: Inspect before the accumulation of— | Whichever occurs later: Or within— | And repeat the inspection at intervals not to exceed—
A300 B2-1C, B2-203, and B2K-3C airplanes | ≤17,500 total flight cycles.¹ | 5,350 total flight cycles | 2,500 flight cycles.² | 4,300 flight cycles.
A300 B2-1C, B2-203, and B2K-3C airplanes | >17,500 total flight.¹ | 20,000 total flight cycles or 40,000 total flight hours, whichever occurs first | 250 flight cycles.² | 4,300 flight cycles.
A300 B4-103, B4-203, and B4-2C airplanes | ≤18,000 total flight cycles.¹ | 5,350 total flight cycles | 2,000 flight cycles.² | 4,300 flight cycles.
A300 B4-103, B4-203, and B4-2C airplanes | >18,000 total flight cycles.¹ | 20,000 total flight cycles or 40,000 total flight hours, whichever occurs first | 250 flight cycles.² | 4,300 flight cycles.
A300 B4-601, B4-603, B4-605R, B4-620, B4-622, and B4-622R airplanes | ≤18,000 total flight cycles.¹ | 4,200 total flight cycles | 2,000 flight cycles.² | 3,600 flight cycles.
A300 B4-601, B4-603, B4-605R, B4-620, B4-622, and B4-622R airplanes | >18,000 total flight cycles.¹ | 20,000 total flight cycles or 40,000 total flight hours, whichever occurs first | 250 flight cycles.² | 3,600 flight cycles.
A310-200 airplanes with GE CF6-80A3 or Pratt & Whitney engines | ≤18,000 total flight cycles.¹ | 9,700 total flight cycles or 19,400 total flight hours, whichever occurs first | 1,500 flight cycles.² | 6,700 flight cycles or 13,400 flight hours, whichever occurs first.
A310-200 airplanes with GE CF6-80A3 or Pratt & Whitney engines | >18,000 total flight cycles.¹ | 19,500 total flight cycles or 55,500 total flight hours, whichever occurs first | 250 flight cycles.² | 6,700 flight cycles or 13,400 flight hours, whichever occurs first.
A310-200 airplanes with GE CF6-80C2 engines | ≤18,000 total flight cycles.¹ | 7,800 total flight cycles or 15,600 total flight hours, whichever occurs first | 1,500 flight cycles.² | 5,800 flight cycles or 11,600 flight hours, whichever occurs first.
A310-200 airplanes with GE CF6-80C2 engines | >18,000 total flight cycles.¹ | 19,500 total flight cycles or 55,500 total flight hours, whichever occurs first | 250 flight cycles.² | 5,800 flight cycles or 11,600 flight hours, whichever occurs first.
A310-300 SR ³ airplanes with Pratt & Whitney JT9D engines | ≤18,000 total flight cycles.¹ | 8,600 total flight cycles or 24,000 total flight hours, whichever occurs first | 1,500 total flight cycles.² | 6,700 flight cycles or 18,700 flight hours, whichever occurs first.
A310-300 SR ³ airplanes with Pratt & Whitney JT9D engines | >18,000 total flight cycles.¹ | 19,500 total flight cycles or 55,500 total flight hours, whichever occurs first | 250 flight cycles.² | 6,700 flight cycles or 18,700 flight hours, whichever occurs first.
A310-300 SR ³ airplanes with GE engines | ≤18,000 total flight cycles.¹ | 7,000 total flight cycles or 19,600 total flight hours, whichever occurs first | 1,500 flight cycles.² | 5,700 flight cycles or 15,900 flight hours, whichever occurs first.
A310-300 SR ³ airplanes with GE engines | >18,000 total flight cycles.¹ | 19,500 total flight cycles or 55,500 total flight hours, whichever occurs first | 250 flight cycles.² | 5,700 flight cycles or 15,900 flight hours, whichever occurs first.
A310-300 SR ³ airplanes with Pratt & Whitney 4000 engines | ≤18,000 total flight cycles.¹ | 7,000 total flight cycles or 19,600 total flight hours, whichever occurs first | 1,500 flight cycles.² | 5,800 flight cycles or 16,200 flight hours, whichever occurs first.
A310-300 SR ³ airplanes with Pratt & Whitney 4000 engines | >18,000 total flight cycles.¹ | 19,500 total flight cycles or 55,500 total flight hours, whichever occurs first | 250 flight cycles.² | 5,800 flight cycles or 16,200 flight hours, whichever occurs first.
A310-300 LR ⁴ airplanes with Pratt & Whitney JT9D engines | ≤18,000 total flight cycles.¹ | 5,900 total flight cycles or 29,500 total flight hours, whichever occurs first | 1,500 flight cycles.² | 6,000 flight cycles or 30,300 flight hours, whichever occurs first.
A310-300 LR ⁴ airplanes with Pratt & Whitney JT9D engines | >18,000 total flight cycles.¹ | 19,500 total flight cycles or 55,500 total flight hours, whichever occurs first | 250 flight cycles.² | 6,000 flight cycles or 30,300 flight hours, whichever occurs first.
A310-300 LR ⁴ airplanes with GE engines | ≤18,000 total flight cycles.¹ | 4,800 total flight cycles or 24,100 total flight hours, whichever occurs first | 1,500 flight cycles.² | 5,100 flight cycles or 25,500 flight hours, whichever occurs first.
A310-300 LR ⁴ airplanes with GE engines | >18,000 total flight cycles.¹ | 19,500 total flight cycles or 55,500 total flight hours, whichever occurs first | 250 flight cycles.² | 5,100 flight cycles or 25,500 flight hours, whichever occurs first.
A310-300 LR ⁴ airplanes with Pratt & Whitney 4000 engines | ≤18,000 total flight cycles.¹ | 4,800 total flight cycles or 24,000 total flight hours, whichever occurs first | 1,500 flight cycles.² | 5,200 flight cycles or 26,300 flight hours, whichever occurs first.
A310-300 LR ⁴ airplanes with Pratt & Whitney 4000 engines | >18,000 total flight cycles.¹ | 19,500 total flight cycles or 55,500 total flight hours, whichever occurs first | 250 flight cycles.² | 5,200 flight cycles or 26,300 flight hours, whichever occurs first.
¹ As of the effective date of this AD.
² After the effective date of this AD.
³ “SR” applies to airplanes with average flights less than 4 flight hours.
⁴ “LR” refers to airplanes with average flights of 4 or more flight hours.

(2) For Model A300 and A300-600 airplanes that have accumulated more than 40,000 total flight hours as of the effective date of this AD: Within 250 flight cycles after the effective date of this AD, do the actions specified in paragraph (f)(1) of this AD.

(3) For Model A310 airplanes that have accumulated more than 55,500 total flight hours as of the effective date of this AD: Within 250 flight cycles after the effective date of this AD, do the actions specified in paragraph (f)(1) of this AD.

(4) For Configuration 01 airplanes, as identified in the applicable service bulletin identified in Table 2 of this AD: If a crack is found during any inspection required by this AD, before further flight, install a doubler, in accordance with paragraph 3.C. of the Accomplishment Instructions of the applicable service bulletin identified in Table 2 of this AD.

(5) For Configuration 02 airplanes, as identified in the applicable service bulletin identified in Table 2 of this AD: At the applicable time specified in paragraph 1.E.(2) of the applicable service bulletin identified in Table 2 of this AD, or within 250 flight cycles after the effective date of this AD, whichever occurs later, perform a detailed visual inspection of the pylons 1 and 2 side panels (upper section) at rib 8, in accordance with paragraph 3.B. of the Accomplishment Instructions of the applicable service bulletin identified in Table 2 of this AD.

(6) For Configuration 03 airplanes, as identified in the applicable service bulletin identified in Table 2 of this AD: At the applicable time specified in paragraph 1.E.(2) of the applicable service bulletin identified in Table 2 of this AD, or within 250 flight cycles after the effective date of this AD, whichever occurs later, perform a detailed visual inspection, and a high frequency eddy current inspection as applicable, of the pylons 1 and 2 side panels (upper section) at rib 8, in accordance with paragraph 3.B. of the Accomplishment Instructions of the applicable service bulletin identified in Table 2 of this AD.

(7) For Configuration 02 and 03 airplanes, as identified in the applicable service bulletin identified in Table 2 of this AD: If a crack is found during any inspection required by paragraph (f)(1), (f)(5), or (f)(6) of this AD, before further flight, repair in accordance with paragraph 3.C. of the Accomplishment Instructions of the applicable service bulletin identified in Table 2 of this AD.

(8) For all airplanes, except those in Configuration 01, as identified in the applicable service bulletin identified in Table 2 of this AD: Repeat the inspection specified in paragraph (f)(1), (f)(5), or (f)(6) of this AD, as applicable, at the intervals specified in paragraph 1.E.(2) of the applicable service bulletin identified in Table 2 of this AD.

Table 2—Service Bulletins
For model— | Use Airbus Mandatory Service Bulletin— | Revision— | Dated—
A300 B2-1C, B2-203, B2K-3C, B4-103, B4-203, and B4-2C airplanes | A300-54-0075, excluding Appendices 1, 2, and 3 | 02 | June 26, 2008.
A300 B4-601, B4-603, B4-605R, B4-620, B4-622, and B4-622R airplanes | A300-54-6015, excluding Appendices 1, 2, and 3 | 02 | June 26, 2008.
A310 series airplanes | A310-54-2018, excluding Appendices 1, 2, and 3 | 02 | June 26, 2008.

(9) Inspections and corrective actions accomplished prior to the effective date of this AD in accordance with the service bulletins identified in Table 3 of this AD, as applicable, are acceptable for compliance with the corresponding requirements of this AD.

Table 3—Previous Service Information
Service Bulletin— | Revision— | Dated—
Airbus Mandatory Service Bulletin A300-54-0075 | 01 | November 9, 2007.
Airbus Mandatory Service Bulletin A300-54-6015 | 01 | November 9, 2007.
Airbus Mandatory Service Bulletin A310-54-2018 | 01 | November 16, 2007.
Airbus Service Bulletin A300-54-0075 | Original | August 11, 1993.
Airbus Service Bulletin A300-54-6015 | Original | August 11, 1993.
Airbus Service Bulletin A310-54-2018 | Original | August 11, 1993.

FAA AD Differences

Note 1: This AD differs from the MCAI and/or service information as follows:

(1) Although the MCAI/service information allows further flight after cracks are found during compliance with certain actions, this AD requires that you repair the crack(s) before further flight.

(2) Although the MCAI specifies to send all inspection results to Airbus, this AD does not include that requirement.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC on any airplane to which the AMOC applies, notify your appropriate principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency Airworthiness Directive 2008-0181, dated October 1, 2008, and the applicable service bulletins identified in Table 2 of this AD, for related information.

Material Incorporated by Reference

(i) You must use the service information specified in Table 4 of this AD, as applicable, to do the actions required by this AD, unless the AD specifies otherwise.

Table 4—Service Information
Airbus Mandatory Service Bulletin— | Revision— | Dated—
A300-54-0075, excluding Appendices 1, 2, and 3 | 02 | June 26, 2008.
A300-54-6015, excluding Appendices 1, 2, and 3 | 02 | June 26, 2008.
A310-54-2018, excluding Appendices 1, 2, and 3 | 02 | June 26, 2008.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington on March 4, 2010.
Suzanne Masterson,
Acting Manager, Transport Airplane Directorate, Aircraft Certification Service.

[FR Doc. 2010-5162 Filed 3-10-10; 8:45 am]

BILLING CODE 4910-13-P